DEPARTMENT OF ENERGY

Federal Energy Regulatory Commission

Notice of Commission Staff Attendance

The Federal Energy Regulatory Commission hereby gives notice that members of the Commission's staff may attend the following meetings related to the transmission planning activities of the PJM Interconnection, L.L.C. (PJM):

PJM Regional Transmission Planning Task Force Conference Call

August 17, 2012, 1 p.m.-4 p.m., Local Time

Markets and Reliability Committee

August 23, 2012, 9 a.m.-3:30 p.m., Local Time

Transmission Owner Cost Allocation Conference Call

September 5, 2012, 10 a.m.-12 p.m., Local Time

Combined Markets and Reliability Committee/Members Committee

September 27, 2012, 9 a.m.-5 p.m., Local Time

The above-referenced meetings will be held over conference call or at:

The Chase Center on the Riverfront, Wilmington, DE

The PJM Conference & Training Center, Norristown, PA

The above-referenced meetings are open to stakeholders.

Further information may be found at www.pjm.com.

The discussions at the meetings described above may address matters at issue in the following proceedings:

Docket No. EL05-121, PJM Interconnection, L.L.C.

Docket No. ER10-253 and EL10-14, Primary Power, L.L.C.

Docket No. EL10-52, Central Transmission, LLC v. PJM Interconnection, L.L.C.

Docket No. ER11-4070, RITELine Indiana et. al.

Docket No. ER11-2875 and EL11-20, PJM Interconnection, L.L.C.

Docket No. ER09-1256, Potomac-Appalachian Transmission Highline, L.L.C.

Docket No. ER09-1589, FirstEnergy Service Company

Docket No. ER10-549, PJM Interconnection, L.L.C.

Docket No. EL11-56, FirstEnergy Service Company

Docket No. EL12-38, New York Independent System Operator, Inc.

Docket No. ER11-1844, Midwest Independent Transmission System Operator, Inc.

Docket No. ER11-2140, PJM Interconnection, L.L.C.

Docket No. ER11-2622, PJM Interconnection, L.L.C.

Docket No. ER11-3106, PJM Interconnection, L.L.C.

Docket No. ER11-4379, PJM Interconnection, L.L.C.

Docket No. ER12-445, PJM Interconnection, L.L.C.

Docket No. ER12-773, PJM Interconnection, L.L.C.

Docket No. ER12-718, New York Independent System Operator, Inc.

Docket No. ER12-1177, PJM Interconnection, L.L.C.

Docket No. ER12-1178, PJM Interconnection, L.L.C.

Docket No. ER12-1693, PJM Interconnection, L.L.C.

Docket No. EL12-69, Primary Power LLC v. PJM Interconnection, L.L.C.

Docket No. ER12-1700, PJM Interconnection, L.L.C.

Docket No. ER12-1901, GenOn Power Midwest, LP

Docket No. ER12-2080, GenOn Power Midwest, LP

Docket No. ER12-2085, PJM Interconnection, L.L.C.

Docket No. ER12-2260, New York Independent System Operator, Inc

Docket No. ER12-2288, PJM Interconnection, L.L.C.

For more information, contact Jonathan Fernandez, Office of Energy Market Regulation, Federal Energy Regulatory Commission at (202) 502-6604 or jonathan.fernandez@ferc.gov.

Dated: August 14, 2012.
Kimberly D. Bose,
Secretary.

[FR Doc. 2012-20427 Filed 8-17-12; 8:45 am]

BILLING CODE 6717-01-P